DEPARTMENT OF ENERGY

Federal Energy Regulatory Commission

18 CFR Parts 41, 158, 286 and 349

[Docket No. RM06-2-000]

Procedures for Disposition of Contested Audit Matters

November 30, 2005.

AGENCY: Federal Energy Regulatory Commission, DOE.

ACTION: Notice of proposed rulemaking: Extension of comment period.

SUMMARY: On October 20, 2005, the Federal Energy Regulatory Commission issued a Notice of Proposed Rulemaking regarding procedures for the disposition of contested audit matters (70 FR 65866, November 1, 2005). The Commission is extending the date for filing reply comments at the request of the Interstate Natural Gas Association.

DATES: Reply comments are due on or before December 9, 2005.

ADDRESSES: Reply comments may be filed electronically via the eFiling link on the Commission's Web site at http://www.ferc.gov. Commenters unable to file comments electronically must send an original and 14 copies of their comments to: Federal Energy Regulatory Commission, Office of the Secretary, 888 First Street, NE., Washington, DC 20426. Refer to the Comment Procedures section of the preamble for additional information on how to file comments.

FOR FURTHER INFORMATION CONTACT: John R. Kroeger, Office of Market Oversight and Investigations, Federal Energy Regulatory Commission, 888 First Street, NE., Washington, DC 20426. (202) 502-8177.

SUPPLEMENTARY INFORMATION:

Notice of Extension of Time

On November 29, 2005, the Interstate Natural Gas Association of America (INGAA) filed a motion for an extension of time to file reply comments in response to the Commission's Notice of Proposed Rulemaking issued October 20, 2005, in the above-docketed proceeding. Procedures for Disposition of Contested Audit Matters, 113 FERC ¶ 61,069 (2005). The motion states that because of the extensive and substantial initial comments that were filed in this proceeding, the intervening Thanksgiving holiday and the press of the significant Commission proceedings in which INGAA is participating, INGAA requires additional time to consult with its members and prepare well-developed and responsive reply comments.

Upon consideration, notice is hereby given that an extension of time for filing reply comments in this proceeding is granted to and including December 9, 2005, as requested by INGAA.

Magalie R. Salas,
Secretary.

[FR Doc. 05-23728 Filed 12-6-05; 8:45 am]

BILLING CODE 6717-01-M